DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Groundfish Tagging Program.

OMB Control Number: 0648-0276.

Form Number(s): None.

Type of Request: Regular.

Number of Respondents: 440.

Average Hours per Response: 5 minutes for returning a regular tag, and 20 minutes for returning an internal archival tag.

Burden Hours: 89

Needs and Uses: NOAA Fisheries is mandated to assess the health of the populations of commercially important species with the best information possible. Groundfish tagging programs in the northeastern Pacific Ocean and Alaska waters provide essential research data on groundfish life histories and migration patterns that are necessary for successful management. Collecting tag recovery data from the public is essential for the success of this program. Each year, thousands of fish are caught during NOAA Fisheries stock assessment surveys. These fish are weighed and measured, and their sex is determined. Fish that appear healthy and uninjured are tagged before being released back into the wild. Fishermen and seafood processors subsequently find the tagged fish. By returning the tag to NOAA Fisheries, along with information on when and where the fish was caught and the size and weight of the fish, these fishermen and processors provide extremely valuable information to fishery scientists and managers. Tagging groundfish for subsequent tracking and recovery is an important tool for managing fishery resources and the information gathered has resulted in numerous scientific and management publications by NOAA Fisheries personnel.

Affected Public: Not-for-profit institutions; State, local, or tribal government; business or other for-profit organizations.

Frequency: Once per year.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-12198 Filed 6-10-19; 8:45 am]

BILLING CODE 3510-22-P